DEPARTMENT OF COMMERCE

International Trade Administration

[C-570-140]

Mobile Access Equipment and Subassemblies Thereof From the People's Republic of China: Final Results of Countervailing Duty Administrative Review; 2022

AGENCY: Enforcement and Compliance, International Trade Administration, Department of Commerce.

SUMMARY: The U.S. Department of Commerce (Commerce) finds that countervailable subsidies were provided to Zhejiang Dingli Machinery Co., Ltd. (Dingli), and its cross-owned affiliates, a producer and exporter of mobile access equipment and subassemblies thereof (MAE) from the People's Republic of China (China). The period of review (POR) is January 1, 2022, through December 31, 2022.

DATES: Applicable December 19, 2025.

FOR FURTHER INFORMATION CONTACT: Paul Senoyuit, AD/CVD Operations, Office II, Enforcement and Compliance, International Trade Administration, U.S. Department of Commerce, 1401 Constitution Avenue NW, Washington, DC 20230; telephone: (202) 482-6106.

SUPPLEMENTARY INFORMATION:

Background

On April 11, 2025, Commerce published in the Federal Register the Preliminary Results and invited interested parties to comment.¹ On August 1, 2025, Commerce extended the deadline to issue its final results for this review by 60 days to no later than October 8, 2025.² Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for these final results is now December 15, 2025. For a complete description of the events that followed the initiation of this review, see the Issues and Decision Memorandum.⁵

¹ See Mobile Access Equipment and Subassemblies Thereof from the People's Republic of China: Preliminary Results and Rescission, in Part, of the Countervailing Duty Administrative Review; 2022, 90 FR 15443 (April 11, 2025) (Preliminary Results), and accompanying Preliminary Decision Memorandum (PDM).

² See Memorandum, “Extension of Deadline for Final Results of 2022 Countervailing Duty Administrative Review” dated August 1, 2025.

³ See Memorandum, “Deadlines Affected by the Shutdown of the Federal Government,” dated November 14, 2025.

⁴ See Memorandum, “Tolling of all Case Deadlines,” dated November 24, 2025.

⁵ See Memorandum, “Issues and Decision Memorandum for the Final Results in the Countervailing Duty Administrative Review of Mobile Access Equipment and Subassemblies Thereof from the People's Republic of China; 2022,” dated concurrently with, and hereby adopted by, this notice (Issues and Decision Memorandum).

Scope of the Order ⁶

⁶ See Certain Mobile Access Equipment and Subassemblies Thereof from the People's Republic of China: Countervailing Duty Order and Amended Final Affirmative Countervailing Duty Determination, 86 FR 70439 (December 10, 2021) (Order).

The products covered by the Order are MAE from China. For a complete description of the scope of the Order, see the Issues and Decision Memorandum.

Analysis of Subsidy Programs and Comments Received

A list of the issues that parties raised, to which we responded in the Issues and Decision Memorandum, is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review and analysis of comments received from parties, for these final results, we made certain changes to the countervailable subsidy rate calculations for Dingli. For a discussion of these changes, see the Issues and Decision Memorandum.

Methodology

Commerce is conducting this review in accordance with section 751(a)(1)(A) of the Tariff Act of 1930, as amended (the Act). For each of the subsidy programs found countervailable, we find that there is a subsidy, i.e., a financial contribution by a government or public entity that gives rise to a benefit to the recipient, and that the subsidy is specific.⁷ For a full description of the methodology underlying our conclusions, including

⁷ See sections 771(5)(B) and (D) of the Act regarding financial contribution; section 771(5)(E) of the Act regarding benefit; and section 771(5A) of the Act regarding specificity.

our reliance, in part, on facts otherwise available with adverse inferences pursuant to sections 776(a) and (b) of the Act, see the Issues and Decision Memorandum.

Final Results of Administrative Review

Commerce determines that the following estimated countervailable subsidy rates exist for the period, January 1, 2022, through December 31, 2022:

⁸ As discussed in the Preliminary Decision Memorandum, and unchanged in the Issues and Decision Memorandum, Commerce has found the following companies to be cross-owned with Dingli: Zhejiang Green Power Machinery Co., Ltd.; Zhejiang Shengda Fenghe Automotive Equipment Co., Ltd.; and Zhejiang Xieheng Intelligent Equipment Co., Ltd.

Company | Subsidy rate (percent ad valorem)
Zhejiang Dingli Machinery Co. Ltd.; Zhejiang Green Power Machinery Co., Ltd.; Zhejiang Shengda Fenghe Automotive Equipment Co., Ltd.; Zhejiang Xieheng Intelligent Equipment Co., Ltd.⁸ | 32.26

Disclosure

Commerce intends to disclose its calculations and analysis performed for the final results of review within five days after the date of publication of this notice in the Federal Register, in accordance with 19 CFR 351.224(b).

Assessment Rates

Pursuant to section 751(a)(2)(C) of the Act and 19 CFR 351.212(b)(2), Commerce has determined, and U.S. Customs and Border Protection (CBP) shall assess, countervailing duties on all appropriate entries of subject merchandise in accordance with the final results of this review, for the above-listed companies at the applicable ad valorem assessment rates. We intend to issue assessment instructions to CBP no earlier than 35 days after the date of publication of these final results of review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends to instruct CBP to collect cash deposits of estimated countervailing duties in the amounts shown for each of the respective companies listed above on shipments of subject merchandise entered, or withdrawn from warehouse, for consumption on or after the date of publication of the final results of this administrative review.⁹ For all non-reviewed firms subject to the Order, we will instruct CBP to continue to collect cash deposits of estimated countervailing duties at the most recent company-specific or all-others rate applicable to the company, as appropriate. These cash deposit requirements, effective upon publication of these final results, shall remain in effect until further notice.

⁹ See, e.g., Honey from Argentina: Results of Countervailing Duty Administrative Review, 69 FR 29518 (May 24, 2004), and accompanying IDM at Comment 4.

Administrative Protective Order (APO)

This notice also serves as a reminder to parties subject to an APO of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.221(b)(5).

Dated: December 15, 2025.
Christopher Abbott,
Deputy Assistant Secretary for Policy and Negotiations, performing the non-exclusive functions and duties of the Assistant Secretary for Enforcement and Compliance.

Appendix

List of Topics Discussed in the Issues and Decision Memorandum

I. Summary

II. Background

III. Changes Since the Preliminary Determination

IV. Calculation of the All-Others Rate

V. Subsidies Valuation Information

VI. Benchmarks

VII. Analysis of Programs

VIII. Discussion of the Issues

Comment 1: Whether Commerce Should Apply Adverse Facts Available (AFA) to the Government of China (GOC) for the MAE for More than Adequate Remuneration (MTAR) Program

Comment 2: Whether Commerce Should Revise its Decision to Countervail the Inputs for Less-Than-Adequate Remuneration (LTAR) Based on AFA

Comment 3: Whether Commerce Should Revise its Decision to Countervail the Electricity for LTAR Based on AFA

Comment 4: Whether Commerce Should Revise its Decision to Countervail the Provision of Land Use for LTAR Based on AFA

Comment 5: Whether Commerce Should Continue to Countervail the GOC's Provision of Other Subsidies

Comment 6: Whether Commerce Should Modify our Benchmark for the MAE for MTAR program

Comment 7: Whether Commerce Should Change the Harmonized System (HS) Subheadings for Provision of Hot-Rolled Steel (HRS) for LTAR

Comment 8: Whether Commerce Should Change the HS Subheadings for Hollow Structural Shapes (HHS) for LTAR

Comment 9: Whether Commerce Should Revise the Benchmark for Provision of Electric Motors for LTAR

Comment 10: Whether Commerce Should Revise Its Finding for Purchases of Diesel Engines for LTAR

Comment 11: Whether Commerce Should Revise the Benchmark for Hydraulic Oil LTAR

Comment 12: Whether Commerce Should Revise the Benchmark for Provision of General Ocean Freight for LTAR

Comment 13: Whether Commerce Should Revise the Benchmark for Inland Freight

Comment 14: Whether Commerce Should Correct Apparent Errors in Dingli's Reported Input Purchases

IX. Recommendation

[FR Doc. 2025-23429 Filed 12-18-25; 8:45 am]

BILLING CODE 3510-DS-P